DEPARTMENT OF VETERANS AFFAIRS

[OMB Control No. 2900-0518]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before March 26, 2007.

ADDRESSES: Submit written comments on the collection of information through http://www.Regulations.gov; or to VA's OMB Desk Officer, OMB Human Resources and Housing Branch, New Executive Office Building, Room 10235, Washington, DC 20503 (202) 395-7316. Please refer to “OMB Control No. 2900-0518” in any correspondence.

FOR FURTHER INFORMATION CONTACT: Denise McLamb, Records Management Service (005G2), Department of Veterans Affairs, 810 Vermont Avenue, NW., Washington, DC 20420, (202) 565-8374, fax (202) 565-7870 or e-mail denise.mclamb@mail.va.gov. Please refer to “OMB Control No. 2900-0518.”

SUPPLEMENTARY INFORMATION: Title: Income Verification, VA Form 21-0161a.

OMB Control Number: 2900-0518.

Type of Review: Existing collection in use without an OMB control number.

Abstract: VA Form 21-0161a is completed by employers of VA beneficiaries who have been identified has having inaccurately reported their income to VA. VA uses the data collected to determine the beneficiary's entitlement to income dependent benefits.

An agency may not conduct or sponsor, and a person is not required to respond to a collection of information unless it displays a currently valid OMB control number. The Federal Register Notice with a 60-day comment period soliciting comments on this collection of information was published on August 15, 2006 at pages 46980-46981.

Affected Public: Business or other for-profit, Not-for-profit institutions, Farms, Federal Government, State, Local or Tribal Government.

Estimated Annual Burden: 15,000 hours.

Frequency of Response: On occasion.

Estimated Number of Respondents: 30 minutes.

Estimated Annual Responses: 30,000.

Dated: February 8, 2007.
By direction of the Secretary.
Denise McLamb,
Program Analyst Records Management Service.

[FR Doc. E7-2983 Filed 2-21-07; 8:45 am]

BILLING CODE 8320-01-P